DEPARTMENT OF TRANSPORTATION

Federal Aviation Administration

14 CFR Part 71

[Docket No. FAA-2024-2352; Airspace Docket No. 24-AEA-4]

RIN 2120-AA66

Establishment of United States Area Navigation Route Q-161 and Amendment of United States Area Navigation Routes Q-97, Q-133, Q-437, Q-439, Q-445, and Q-481; Eastern United States

AGENCY: Federal Aviation Administration (FAA), DOT.

ACTION: Notice of proposed rulemaking (NPRM).

SUMMARY: This action proposes to establish United States Area Navigation (RNAV) Route Q-161 and amend RNAV Routes Q-97, Q-133, Q-437, Q-439, Q-445, and Q-481 in the eastern United States. This action supports the Northeast Corridor Atlantic Coast Route (NEC ACR) Optimization Project to improve the efficiency of the National Airspace System (NAS).

DATES: Comments must be received on or before December 12, 2024.

ADDRESSES: Send comments identified by FAA Docket No. FAA-2024-2352 and Airspace Docket No. 24-AEA-4 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FAA Order JO 7400.11J, Airspace Designations and Reporting Points, and subsequent amendments can be viewed online at www.faa.gov/air_traffic/publications/. You may also contact the Rules and Regulations Group, Policy Directorate, Federal Aviation Administration, 600 Independence Avenue SW, Washington, DC 20597; telephone: (202) 267-8783.

FOR FURTHER INFORMATION CONTACT: Brian Vidis, Rules and Regulations Group, Policy Directorate, Federal Aviation Administration, 600 Independence Avenue SW, Washington, DC 20597; telephone: (202) 267-8783.

SUPPLEMENTARY INFORMATION:

Authority for This Rulemaking

The FAA's authority to issue rules regarding aviation safety is found in Title 49 of the United States Code. Subtitle I, section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it amends the route structure to maintain the efficient flow of air traffic within the NAS.

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received and any final disposition in person in the Dockets Operations office (see ADDRESSES section for address, phone number, and hours of operations). An informal docket may also be examined during normal business hours at the office of the Eastern Service Center, Federal Aviation Administration, Room 210, 1701 Columbia Avenue, College Park, GA, 30337.

Incorporation by Reference

United States Area Navigation Routes (Q-Routes) are published in paragraph 2006 of FAA Order JO 7400.11, Airspace Designations and Reporting Points, which is incorporated by reference in 14 CFR 71.1 on an annual basis. This document proposes to amend the current version of that order, FAA Order JO 7400.11J, dated July 31, 2024, and effective September 15, 2024. These updates would be published in the next update to FAA Order JO 7400.11. That order is publicly available as listed in the ADDRESSES section of this document.

FAA Order JO 7400.11J lists Class A, B, C, D, and E airspace areas, air traffic service routes, and reporting points.

The Proposal

The FAA is proposing an amendment to 14 CFR part 71 to establish RNAV Route Q-161 and amend RNAV Routes Q-97, Q-133, Q-437, Q-439, Q-445, and Q-481 in the eastern United States This action supports the NEC ACR Optimization Project to improve the efficiency of the NAS. The proposed route changes are described below.

Additionally, the FAA identified that the route descriptions of RNAV Routes Q-133 and Q-437 list the KALDA, VA; VILLS, NJ; and LLUND, NY route points as Fixes, in error. These route points were modified on June 20, 2023, from a Fix to become a waypoint (WP). The KALDA, VILLS, and LLUND route points are identified as a WP in the National Airspace System Resource (NASR) database and charted as a WP accordingly. This proposal would correct these errors and refer to the KALDA, VILLS, and LLUND route points as a WP.

In place of a two-letter state abbreviation for multiple listed route points in route descriptions the “OA” means “Offshore Atlantic”.

Q-97: Q-97 currently extends between the TOVAR, FL, WP and the Presque Isle, ME (PQI), Very High Frequency Omnidirectional Range/Distance Measuring Equipment (VOR/DME). The FAA proposes to remove the BYSEL, MD, WP from the route description as it is a turn of less than one degree. Additionally, the FAA proposes to add six route points between the ZJAAY, MD, WP and the Calverton, NY (CCC), VOR/DME. The route points that would be added are the PAJET, DE, WP; CAANO, DE, WP; TBONN, OA, WP; ZIZZI, NJ, WP; YAZUU, NJ, WP; and HEADI, NJ, WP. The proposed route modification would move RNAV Route Q-97 to the east to eliminate traffic conflicts between aircraft flying southbound on RNAV Route Q-97 and aircraft flying northbound on RNAV Route Q-439 descending into the New York and Connecticut areas. As amended, the route would continue to extend between the TOVAR WP and the Presque Isle VOR/DME.

Q-133: Q-133 currently extends between the CHIEZ, NC, WP and the PONCT, NY, WP. The FAA proposes to remove the airway segments between the CHIEZ WP and the CONFR, MD, WP and replace it with the airway segment between the JAMIE, VA, Fix and the CONFR WP. The route segment between the CHIEZ WP and the KALDA, VA, WP is still needed for navigation, and this action proposes to continue to provide this RNAV connectivity to the KALDA WP as new RNAV Route Q-161 proposed in this action. Additionally, the FAA proposes to remove the airway segment between the Kennedy, NY (JFK) VOR/DME and the PONCT WP and replace it with the airway segments between the Kennedy VOR/DME and the PBERG, NY, WP. These proposed changes improve the connectivity of multiple airports along the east coast of the United States to the Montreal-Trudeau Airport, Canada, where the preferred arrival route is over the PBERG WP. As amended, the route would be changed to extend between the JAMIE Fix and the PBERG WP.

Q-161: Q-161 is a new RNAV route proposed to extend between the CHIEZ, NC, WP and the KALDA, VA, WP. This new proposed RNAV route overlays a portion of RNAV Route Q-133, proposed to be amended in this action, but would provide additional efficiency by becoming its own distinct route. The new proposed route would continue to provide RNAV connectivity between the CHIEZ WP and the KALDA WP.

Q-437: Q-437 currently extends between the VILLS, NJ, WP and the LLUND, NY, WP. The FAA proposes to remove the airway segments between the VILLS WP and the LLUND WP and replace it with the airway segments between the CRPLR, VA, WP and the PONCT, NY, WP due to high traffic density over the New York City area. These proposed changes would move aircraft from being directly over New York City to an area west of Newark, NJ. Additionally, the proposed would expand RNAV connectivity further to the south to Norfolk, VA area, and further to the north to the Albany, NY area. As amended, the route would be changed to extend between the CRPLR WP and the PONCT WP.

Q-439: Q-439 currently extends between the HOWYU, DE, WP and the Presque Isle, ME (PQI), VOR/DME. The FAA proposes to remove the airway segments between the HOWYU WP and the MANTA, NJ, Fix and replace it with the airway segments between the KALDA, VA, WP and the MANTA Fix due to a need to separate aircraft arriving to the John F. Kennedy International Airport, NY from aircraft arriving to other airports in the New York City area. As amended, the route would be changed to extend between the KALDA WP and the Presque Isle VOR/DME.

Q-445: Q-445 currently extends between the SHAUP, OA, WP and the KYSKY, NY, WP. The FAA proposes to extend RNAV Route Q-445 to the south between the KALDA, VA, WP and the SHAUP WP. The proposed route extension would provide RNAV connectivity from the KALDA WP to the eastern Massachusetts area. As amended, the route would be changed to extend between the KALDA WP and the KYSKY WP.

Q-481: Q-481 currently extends between the CONFR, MD, WP and the Deer Park, NY (DPK), VOR/DME. The FAA proposes to extend RNAV Route Q-481 to the south between the JAMIE, VA, WP and the CONFR WP; and remove the LEEAH, NJ, Fix from the route and replace it with the SOSBY, OA, WP and the ECOIL, OA, WP. These proposed route modifications are necessary to ensure adequate separation with other parallel RNAV routes in the Atlantic City, NJ area. As amended, the route would be changed to extend between the JAMIE WP and the Deer Park VOR/DME.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11J, Airspace Designations and Reporting Points, dated July 31, 2024, and effective September 15, 2024, is amended as follows:

Paragraph 2006 United States Area Navigation Routes.

* * * * *

Q-97 TOVAR, FL to Presque Isle, ME (PQI) [Amended]
TOVAR, FL | WP | (Lat. 26°33′05.09″ N, long. 080°02′19.75″ W)
MALET, FL | FIX | (Lat. 28°41′29.90″ N, long. 080°52′04.30″ W)
DEBRL, FL | WP | (Lat. 29°17′48.73″ N, long. 081°08′02.88″ W)
KENLL, FL | WP | (Lat. 29°34′28.35″ N, long. 081°07′25.26″ W)
PRMUS, FL | WP | (Lat. 29°49′05.67″ N, long. 081°07′20.74″ W)
WOPNR, OA | WP | (Lat. 30°37′36.03″ N, long. 081°04′26.44″ W)
JEVED, GA | WP | (Lat. 31°15′02.60″ N, long. 081°03′40.14″ W)
CAKET, SC | WP | (Lat. 32°31′08.63″ N, long. 080°16′09.21″ W)
ELLDE, NC | WP | (Lat. 34°24′14.57″ N, long. 078°41′50.60″ W)
PAACK, NC | WP | (Lat. 35°55′40.26″ N, long. 077°15′30.99″ W)
SAWED, VA | WP | (Lat. 37°32′00.73″ N, long. 075°51′29.10″ W)
KALDA, VA | WP | (Lat. 37°50′31.06″ N, long. 075°37′35.34″ W)
ZJAAY, MD | WP | (Lat. 38°03′09.95″ N, long. 075°26′34.27″ W)
PAJET, DE | WP | (Lat. 38°28′04.13″ N, long. 075°03′00.55″ W)
CAANO, DE | WP | (Lat. 38°31′46.37″ N, long. 074°58′52.32″ W)
TBONN, OA | WP | (Lat. 38°45′02.83″ N, long. 074°45′03.77″ W)
ZIZZI, NJ | WP | (Lat. 38°56′26.46″ N, long. 074°31′44.28″ W)
YAZUU, NJ | WP | (Lat. 39°24′44.82″ N, long. 074°01′01.55″ W)
HEADI, NJ | WP | (Lat. 39°57′49.56″ N, long. 073°43′28.85″ W)
Calverton, NY (CCC) | VOR/DME | (Lat. 40°55′46.63″ N, long. 072°47′55.89″ W)
NTMEG, CT | WP | (Lat. 41°16′30.75″ N, long. 072°28′52.08″ W)
VENTE, MA | WP | (Lat. 42°08′24.33″ N, long. 071°53′38.08″ W)
BLENO, NH | WP | (Lat. 42°54′55.00″ N, long. 071°04′43.37″ W)
FRIAR, ME | FIX | (Lat. 44°26′28.93″ N, long. 069°53′04.38″ W)
Presque Isle, ME (PQI) | VOR/DME | (Lat. 46°46′27.07″ N, long. 068°05′40.37″ W)

* * * * *

Q-133 JAMIE, VA to PBERG, NY [Amended]
JAMIE, VA | FIX | (Lat. 37°36′20.58″ N, long. 075°57′48.81″ W)
CONFR, MD | WP | (Lat. 38°16′10.90″ N, long. 075°24′32.98″ W)
MGERK, DE | WP | (Lat. 38°46′16.00″ N, long. 075°18′09.00″ W)
LEEAH, NJ | FIX | (Lat. 39°15′39.27″ N, long. 074°57′11.01″ W)
MYRCA, NJ | WP | (Lat. 40°20′42.97″ N, long. 073°56′58.07″ W)
Kennedy, NY (JFK) | VOR/DME | (Lat. 40°37′58.38″ N, long. 073°46′17.01″ W)
BIZEX, NY | WP | (Lat. 41°17′02.86″ N, long. 073°34′50.20″ W)
Cambridge, NY (CAM) | VOR/DME | (Lat. 42°59′39.44″ N, long. 073°20′38.47″ W)
PBERG, NY | WP | (Lat. 44°42′06.25″ N, long. 073°31′22.18″ W)

* * * * *

Q-161 CHIEZ, NC to KALDA, VA [New]
CHIEZ, NC | WP | (Lat. 34°31′05.93″ N, long. 077°32′25.74″ W)
KOOKI, NC | WP | (Lat. 35°54′21.71″ N, long. 076°41′56.22″ W)
PYSTN, VA | WP | (Lat. 37°05′19.78″ N, long. 075°53′22.19″ W)
KALDA, VA | WP | (Lat. 37°50′31.06″ N, long. 075°37′35.34″ W)

* * * * *

Q-437 CRPLR, VA to PONCT, NY [Amended]
CRPLR, VA | WP | (Lat. 37°36′24.01″ N, long. 076°09′57.67″ W)
TRPOD, MD | WP | (Lat. 38°20′20.33″ N, long. 075°32′01.85″ W)
OYVAY, OA | WP | (Lat. 39°01′03.58″ N, long. 075°26′28.07″ W)
VILLS, NJ | WP | (Lat. 39°18′03.87″ N, long. 075°06′37.90″ W)
SIZZR, NJ | WP | (Lat. 39°33′57.22″ N, long. 074°53′58.83″ W)
METRO, NJ | WP | (Lat. 40°25′21.77″ N, long. 074°40′10.30″ W)
CLAUS, NJ | WP | (Lat. 40°48′50.07″ N, long. 074°10′08.96″ W)
GANDE, NY | WP | (Lat. 41°30′36.66″ N, long. 073°48′52.03″ W)
PONCT, NY | WP | (Lat. 42°44′48.83″ N, long. 073°48′48.07″ W)

* * * * *

Q-439 KALDA, VA to Presque Isle, ME (PQI) [Amended]
KALDA, VA | WP | (Lat. 37°50′31.06″ N, long. 075°37′35.34″ W)
ZJAAY, MD | WP | (Lat. 38°03′09.95″ N, long. 075°26′34.27″ W)
BYSEL, MD | WP | (Lat. 38°15′02.70″ N, long. 075°16′52.87″ W)
RADDS, DE | FIX | (Lat. 38°38′54.80″ N, long. 075°05′18.48″ W)
SHHAY, DE | WP | (Lat. 38°47′04.08″ N, long. 074°55′55.42″ W)
BRIGS, NJ | FIX | (Lat. 39°31′24.72″ N, long. 074°08′19.67″ W)
MANTA, NJ | FIX | (Lat. 39°54′07.01″ N, long. 073°32′31.63″ W)
SARDI, NY | FIX | (Lat. 40°31′26.61″ N, long. 072°47′55.87″ W)
RIFLE, NY | WP | (Lat. 40°41′24.18″ N, long. 072°34′54.89″ W)
FOXWD, CT | WP | (Lat. 41°48′21.66″ N, long. 071°48′07.03″ W)
BOGRT, MA | WP | (Lat. 42°13′56.08″ N, long. 071°31′07.37″ W)
BLENO, NH | WP | (Lat. 42°54′55.00″ N, long. 071°04′43.37″ W)
BEEKN, ME | WP | (Lat. 43°20′51.95″ N, long. 070°44′50.28″ W)
Presque Isle, ME (PQI) | VOR/DME | (Lat. 46°46′27.07″ N, long. 068°05′40.37″ W)

* * * * *

Q-445 KALDA, VA to KYSKY, NY [Amended]
KALDA, VA | WP | (Lat. 37°50′31.06″ N, long. 075°37′35.34″ W)
ZJAAY, MD | WP | (Lat. 38°03′09.95″ N, long. 075°26′34.27″ W)
PAJET, DE | WP | (Lat. 38°28′04.13″ N, long. 075°03′00.55″ W)
CAANO, DE | WP | (Lat. 38°31′46.37″ N, long. 074°58′52.32″ W)
TBONN, OA | WP | (Lat. 38°45′02.83″ N, long. 074°45′03.77″ W)
ZIZZI, NJ | WP | (Lat. 38°56′26.46″ N, long. 074°31′44.28″ W)
YAZUU, NJ | WP | (Lat. 39°24′44.82″ N, long. 074°01′01.55″ W)
SHAUP, OA | WP | (Lat. 39°44′23.91″ N, long. 073°34′33.84″ W)
VALCO, OA | WP | (Lat. 40°05′29.86″ N, long. 073°08′22.91″ W)
KYSKY, NY | WP | (Lat. 40°46′52.75″ N, long. 072°12′21.45″ W)

* * * * *

Q-481 JAMIE, VA to Deer Park, NY (DPK) [Amended]
JAMIE, VA | WP | (Lat. 37°36′20.58″ N, long. 075°57′48.81″ W)
CONFR, MD | WP | (Lat. 38°16′10.90″ N, long. 075°24′32.98″ W)
MGERK, DE | WP | (Lat. 38°46′16.00″ N, long. 075°18′09.00″ W)
SOSBY, OA | WP | (Lat. 39°15′24.74″ N, long. 074°55′30.57″ W)
ECOIL, OA | WP | (Lat. 39°49′58.45″ N, long. 074°14′06.07″ W)
ZIGGI, NJ | FIX | (Lat. 40°03′07.01″ N, long. 074°00′49.34″ W)
Deer Park, NY (DPK) | VOR/DME | (Lat. 40°47′30.30″ N, long. 073°18′13.17″ W)

* * * * *

Issued in Washington, DC, on October 22, 2024.
Frank Lias,
Manager, Rules and Regulations Group.

[FR Doc. 2024-24938 Filed 10-25-24; 8:45 am]

BILLING CODE 4910-13-P